DEPARTMENT OF TRANSPORTATION

Federal Aviation Administration

[Summary Notice No. PE-2000-39]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before September 21, 2000.

ADDRESSES: Send comments on any petition in triplicate to: Federal Aviation Administration, Office of the Chief Counsel, Attn: Rule Docket (AGC-200), Petition Docket No. _____, 800 Independence Avenue, SW., Washington, D.C. 20591.

The petition, any comments received, and a copy of any final disposition are filed in the assigned regulatory docket and are available for examination in the Rules Docket (AGC-2000), Room 915G, FAA Headquarters Building (FOB 10A), 800 Independence Avenue, SW., Washington, D.C. 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on August 28, 2000.
Joseph A. Conte,
Acting Assistant Chief Counsel for Regulations.

Dispositions of Petitions

Docket No.: 29983.

Petitioner: Aviation Management Systems, Inc.

Section of the FAR Affected: 14 CFR 145.45(f).

Description of Relief Sought/Disposition: To permit AMS to make its IPM available electronically to its supervisory, inspection, and other personnel, rather than give a paper copy of the IPM to each of its supervisory and inspection personnel.

Grant, 07/26/00, Exemption No. 7303

Docket No.: 28110.

Petitioner: McKeeman Productions, Inc.

Section of the FAR Affected: 14 CFR 105.43(a).

Description of Relief Sought/Disposition: To permit nonstudent foreign national parachutists to participate in MPI-sponsored parachute jumping events without complying with the parachute equipment and packing requirements of § 105.43(a).

Grant, 08/10/00, Exemption No. 7310

Docket No.: 30129.

Petitioner: Central Oregon EAA Chapter 617.

Section of the FAR Affected: 14 CFR 135.251, 135.255, 135.353, and appendixes I and J to part 121.

Description of Relief Sought/Disposition: To permit EAA Chapter 617 to conduct local sightseeing flights at Madras City County, Oregon airport for a one-day charitable event benefiting the Experimental Aircraft Association Foundation in August 2000, for compensation or hire without complying with certain anti-drug and alcohol misuse prevention requirements of part 135.

Grant, 08/11/00, Exemption No. 7314

Docket No.: 30114.

Petitioner: Thunder Air Charter, Inc.

Section of the FAR Affected: 14 CFR 135.143(c)(2).

Description of Relief Sought/Disposition: To permit Thunder Air to operate certain aircraft under part 135 without a TSO-C112 (Mode S) transponder installed in the aircraft.

Grant, 08/11/00, Exemption No. 7315

Docket No.: 30082.

Petitioner: Southeast Air Charter, Inc.

Section of the FAR Affected: 14 CFR 135.143(c)(2).

Description of Relief Sought/Disposition: To permit SAC to operate certain aircraft under part 135 without a TSO-C112 (Mode S) transponder installed in the aircraft.

Grant, 08/11/00, Exemption No. 7316

Docket No.: 30124.

Petitioner: Sandusky Flying Club.

Section of the FAR Affected: 14 CFR 135.251, 135.255, 135.353, and appendixes I and J to part 121.

Description of Relief Sought/Disposition: To permit SFC to conduct local sightseeing flights at Sandusky City Airport for its one-day Dawn Patrol event in August 2000, for compensation or hire, without complying with certain anti-drug and alcohol misuse prevention requirements of part 135.

Grant, 08/11/00, Exemption No. 7313

Docket No.: 30126.

Petitioner: Historical Aviation Organization of Logan County.

Section of the FAR Affected: 14 CFR 135.251, 135.255, 135.353, and appendixes I and J to part 121.

Description of Relief Sought/Disposition: To permit HAOLC to conduct local sightseeing flights at Bellefontaine Municipal Airport for its two-day Air Fest 2000 event in August 2000, for compensation or hire, without complying with certain anti-drug and alcohol misuse prevention requirements of part 135.

Grant, 08/11/00, Exemption No. 7312

Docket No.: 25550.

Petitioner: Department of the Army.

Section of the FAR Affected: 14 CFR 91.169(a)(2) and (c).

Description of Relief Sought/Disposition: To permit U.S. Army to file instrument flight rules flight plans in accordance with the regulations prescribed by the U.S. Army.

Grant, 08/08/00, Exemption No. 6528B

[FR Doc. 00-22367 Filed 8-31-00; 8:45 am]

BILLING CODE 4910-13-M